COMMISSION ON CIVIL RIGHTS

45 CFR Part 706

RIN 3035-AA02

Employee Responsibilities and Conduct Residual Cross-References Regulation of the United States Commission on Civil Rights

AGENCY: U.S. Commission on Civil Rights.

ACTION: Final rule.

SUMMARY: The United States Commission on Civil Rights (Commission) is repealing its old employee conduct regulations, which have been superseded by the executive branch Standards of Ethical Conduct, financial disclosure and financial interests regulations issued by the Office of Government Ethics (OGE). In place of its old regulations, the Commission is adding a section of residual cross-references to those branchwide regulations as well as its new supplemental standards regulations and certain executive branchwide conduct rules promulgated by the Office of Personnel Management (OPM). The text of the rule was published in the Federal Register on August 30, 2006 at 71 FR 51546 as a proposed rule and provided that comments should have been received by September 29, 2006 to be considered in the formulation of the final rule. No comments were received.

DATES: Effective Date: July 14, 2008.

FOR FURTHER INFORMATION CONTACT: Emma Monroig, Esq., Solicitor and Designated Agency Ethics Official, Office of the Staff Director, United States Commission on Civil Rights, 624 Ninth Street, NW., Suite 621, Washington, DC 20425; Telephone: (202) 376-7796; Facsimile: (202) 376-1163.

SUPPLEMENTARY INFORMATION: In 1992, OGE issued a final rule setting forth uniform executive branch Standards of Ethical Conduct (generally effective on February 3, 1993) and an interim final rule on financial disclosure, and in 1996 issued a final rule on financial interests for executive branch departments and agencies of the Federal Government and their employees. Those three executive branchwide regulations, as corrected and amended, are codified at 5 CFR parts 2634, 2635 and 2640. Together those regulations have superseded the old Commission regulations, based on prior OPM standards, on employee responsibilities and conduct at 45 CFR part 706 which the Commission adopted in 1979. See 44 FR 75152, as revised in 2002 at 67 FR 70498. Accordingly, the Commission is removing its superseded regulations, and adds in place thereof, a new section containing residual crossreferences to the provisions at 5 CFR parts 2634, 2635 and 2640, as well as to the new Commission regulation supplementing the executive branchwide standards that is being separately published today elsewhere in this issue of the Federal Register for codification in a new chapter LXVIII of 5 CFR, to consist of part 7801 In addition, the Commission is including in its residual section a reference to the separate, specific executive branchwide provisions regarding gambling, safeguarding the examination process and conduct prejudicial to the Government which are set forth in 5 CFR part 735, as amended and reissued by OPM in 1992 and 2006. Those specific branchwide restrictions are not covered by OGE's Standards of Ethical Conduct regulation; furthermore, they are self-executing and do not require any department or agency republication. In this final rule, the Commission is also correcting the prior proposed residual cross-references section citation to read 706.1”. Otherwise, the Commission is adopting its proposed residual regulation as final without change.

Matters of Regulatory Procedure

Executive Orders 12866 and 12988

Because this rule relates to Commission personnel, it is exempt from the provisions of Executive Orders 12866 and 12988.

Regulatory Flexibility Act

It has been determined under the Regulatory Flexibility Act (5 U.S.C. chapter 6) that this rule does not have a significant economic impact on a substantial number of small entities because it primarily affects Commission employees.

Paperwork Reduction Act

It has been determined that the Paperwork Reduction Act (44 U.S.C. chapter 35) does not apply to this rulemaking document because it does not contain any information collection requirements that require the approval of the Office of Management and Budget.

Congressional Review Act

The Commission has determined that this rulemaking is not a rule as defined in 5 U.S.C. 804, and, thus, does not require review by Congress.

List of Subjects in 45 CFR Part 706

Conflict of interests, Government employees.

Dated: March 26, 2008.
Robert Lerner,
Assistant Staff Director for the Office of Civil Rights Evaluation, Delegated Duties of the Staff Director, United States Commission on Civil Rights.
Dated: March 26, 2008.
Emma Monroig,
Solicitor and Designated Agency Ethics Official, United States Commission on Civil Rights.

For the reasons set forth in this preamble, the Commission is revising 45 CFR part 706 to read as follows:

PART 706—EMPLOYEE RESPONSIBILITES AND CONDUCT

Authority: 5 U.S.C. 7301; 42 U.S.C. 1975b(d).

§ 706.1 Cross-references to employee ethical conduct standards, financial disclosure and financial interests regulations and other conduct rules.

Employees of the United States Commission on Civil Rights are subject to the executive branch standards of ethical conduct contained in 5 CFR part 2635, the Commission regulations at 5 CFR part 7801 which supplement the executive branchwide standards, the executive branch financial disclosure regulations contained in 5 CFR part 2634, and the executive branch financial interests regulations contained in 5 CFR part 2640, as well as the executive branch employee responsibilities and conduct regulations contained in 5 CFR part 735.

[FR Doc. E8-13171 Filed 6-12-08; 8:45 am]

BILLING CODE 6335-01-M